FEDERAL COMMUNICATIONS COMMISSION

47 CFR Part 73

[DA 23-311; MB Docket No. 21-502; FR ID 136555]

Radio Broadcasting Services; Millerton, Oklahoma; Powers, Oregon; Mount Enterprise and Paint Rock, Texas; Hardwick, Vermont; and Meeteetse, Wyoming

AGENCY: Federal Communications Commission.

ACTION: Final rule; grant of petition for reconsideration.

SUMMARY: This document amends the FM Table of Allotments, of the Federal Communications Commission's (Commission) rules, by reinstating Channel 290A at Hardwick, Vermont, in response to the Commission's grant of the Petition for Reconsideration filed by Shire and Shore Communications. The window period for filing applications for Channel 290A at Hardwick, Vermont, will be announced by the Commission in the near future.

DATES: Effective May 26, 2023.

FOR FURTHER INFORMATION CONTACT: Rolanda F. Smith, Media Bureau, (202) 418-2700.

SUPPLEMENTARY INFORMATION: This is a synopsis of the Commission's Memorandum Opinion and Order, adopted April 11, 2023, and released April 11, 2023. The full text of this Commission decision is available online

at https://apps.fcc.gov/ecfs. The full text of this document can also be downloaded in Word or Portable Document Format (PDF) at https://www.fcc.gov/edocs. This document does not contain information collection requirements subject to the Paperwork Reduction Act of 1995, Public Law 104-13. The Commission will send a copy of the Memorandum Opinion and Order in a report to be sent to Congress and the Government Accountability Office pursuant to the Congressional Review Act, see 5 U.S.C. 801(a)(1)(A).

The Report and Order, in this proceeding, deleted Channel 265C2 at Millerton, Oklahoma; Channel 293C2 at Powers, Oregon; Channel 279A at Mount Enterprise, Texas; Channel 296C3 at Paint Rock, Texas; Channel 290A at Hardwick, Vermont; and Channel 259C at Meeteetse, Wyoming. See 87 FR 31433 (published May 24, 2022). The communities respective channels were only removed from the FM Table of Allotments. This document therefore makes editorial changes to the FM Table of Allotments by removing the communities of Millerton, Oklahoma; Powers, Oregon; Mount Enterprise and Paint Rock, Texas; and Meeteetse, Wyoming.

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202, in paragraph (b), amend table 1 (the Table of FM Allotments) by:

a. Removing “Millerton” under Oklahoma;

b. Removing “Powers” under Oregon;

c. Removing “Mount Enterprise” and “Paint Rock” under Texas;

d. Revising the entry for “Hardwick” under Vermont; and

e. Removing “Meeteetse” under Wyoming.

The revision reads as follows:

§ 73.202 Table of Allotments.

* * * * *

(b) * * *

Table 1 to Paragraph (b)
[U.S. States]
| Channel No.
* * * * *
Vermont
* * * * *
Hardwick | 290A
* * * * *

[FR Doc. 2023-08205 Filed 4-19-23; 8:45 am]

BILLING CODE 6712-01-P